DEPARTMENT OF ENERGY

Federal Energy Regulatory Commission

[Docket Nos. ER05-31-000, ER05-31-001, and EL05-70-000]

American Electric Power Service Corporation; PJM Interconnection, LLC and Midwest Independent Transmission System Operator, Inc.; Notice Instituting Section 206 Proceeding and Establishing Effective Refund Date

March 10, 2005.

On March 9, 2005, the Commission issued an order in the above-referenced dockets instituting a proceeding in Docket No. EL05-70-000 under section 206 of the Federal Power Act.

The refund effective date in Docket No. EL05-70-000, established pursuant to section 206 of the Federal Power Act, will be 60 days following publication of this notice in the Federal Register.

Magalie R. Salas,
Secretary.

[FR Doc. E5-1148 Filed 3-15-05; 8:45 am]

BILLING CODE 6717-01-P